DEPARTMENT OF JUSTICE

8 CFR Ch. V

21 CFR Ch. I

27 CFR Ch. II

28 CFR Ch. I, V

Regulatory Agenda

AGENCY: Department of Justice.

ACTION: Semiannual regulatory agenda.

SUMMARY: The Department of Justice is publishing its spring 2016 regulatory agenda pursuant to Executive Order 12866, “Regulatory Planning and Review,” 58 FR 51735, and the Regulatory Flexibility Act, 5 U.S.C. 601 to 612 (1988).

FOR FURTHER INFORMATION CONTACT: Robert Hinchman, Senior Counsel, Office of Legal Policy, Department of Justice, Room 4252, 950 Pennsylvania Avenue NW., Washington, DC 20530, (202) 514-8059.

SUPPLEMENTARY INFORMATION: Beginning with the fall 2007 edition, the Internet has been the basic means for disseminating the Unified Agenda. The complete Unified Agenda will be available online at www.reginfo.gov in a format that offers users a greatly enhanced ability to obtain information from the Agenda database.

Because publication in the Federal Register is mandated for the regulatory flexibility agendas required by the Regulatory Flexibility Act (5 U.S.C. 602), the Department of Justice's printed agenda entries include only:

(1) Rules that are in the Agency's regulatory flexibility agenda, in accordance with the Regulatory Flexibility Act, because they are likely to have a significant economic impact on a substantial number of small entities; and

(2) any rules that the Agency has identified for periodic review under section 610 of the Regulatory Flexibility Act.

Printing of these entries is limited to fields that contain information required by the Regulatory Flexibility Act's Agenda requirements. Additional information on these entries is available in the Unified Agenda published on the Internet.

Dated: March 24, 2016.
Jonathan J. Wroblewski,
Principal Deputy Assistant Attorney General, Office of Legal Policy.

Civil Rights Division—Prerule Stage
Sequence No. | Title | Regulation Identifier No.
180 | Nondiscrimination on the Basis of Disability: Accessibility of Web Information and Services of State and Local Governments | 1190-AA65

Civil Rights Division—Final Rule Stage
Sequence No. | Title | Regulation Identifier No.
181 | Nondiscrimination on the Basis of Disability; Movie Captioning and Audio Description | 1190-AA63

DEPARTMENT OF JUSTICE (DOJ)

Civil Rights Division (CRT)

Prerule Stage

180. Nondiscrimination on the Basis of Disability: Accessibility of Web Information and Services of State and Local Governments

Legal Authority: 42 U.S.C. 12101 et seq.

Abstract: The Department published an ANPRM on July 26, 2010, RIN 1190-AA61, that addressed issues relating to proposed revisions of both the title II and title III ADA regulations in order to provide guidance on the obligations of covered entities to make programs, services and activities offered over the Web accessible to individuals with disabilities. The Department has now divided the rulemakings in the next step of the rulemaking process so as to proceed with separate notices of proposed rulemakings for title II and title III. The title III rulemaking on Web accessibility will continue under RIN 1190-AA61 and the title II rulemaking will continue under the new RIN 1190-AA65. This rulemaking will provide specific guidance to State and local governments in order to make services, programs, or activities offered to the public via the Web accessible to individuals with disabilities. The ADA requires that State and local governments provide qualified individuals with disabilities equal access to their programs, services, or activities unless doing so would fundamentally alter the nature of their programs, services, or activities or would impose an undue burden. 42. U.S.C. 12132. The Internet as it is known today did not exist when Congress enacted the ADA; yet today the Internet is dramatically changing the way that governmental entities serve the public. Taking advantage of new technology, citizens can now use State and local government Web sites to correspond online with local officials; obtain information about government services; renew library books or driver's licenses; pay fines; register to vote; obtain tax information and file tax returns; apply for jobs or benefits; and complete numerous other civic tasks. These Government Web sites are important because they allow programs and services to be offered in a more dynamic, interactive way in order to increase citizen participation; increase convenience and speed in obtaining information or services; reduce costs in providing information about Government services and administering programs; reduce the amount of paperwork; and expand the possibilities of reaching new sectors of the community or offering new programs or services. Many States and localities have begun to improve the accessibility of portions of their Web sites. However, full compliance with the ADA's promise to provide an equal opportunity for individuals with disabilities to participate in and benefit from all aspects of the programs, services, and activities provided by State and local governments in today's technologically advanced society will only occur if it is clear to public entities that their Web sites must be accessible. Consequently, the Department intends to publish a Notice of Proposed Rulemaking (NPRM) to amend its title II regulations to expressly address the obligations of public entities to make the Web sites they use to provide programs, activities, or services or information to the public accessible to and usable by individuals with disabilities under the legal framework established by the ADA. The proposed regulation will propose the scope of the obligation to provide accessibility when persons with disabilities access public Web sites, as well as propose the technical standards necessary to comply with the ADA.

Timetable:

Action | Date | FR Cite
ANPRM | 07/26/10 | 75 FR 43460
ANPRM Comment Period End | 01/21/11 |
Second ANPRM | 05/00/16 |
Second ANPRM Comment Period End | 08/00/16 |
NPRM | 07/00/17 |
NPRM Comment Period End | 09/00/17 |

Regulatory Flexibility Analysis Required: Yes.

Agency Contact: Rebecca B. Bond, Chief, Department of Justice, Civil Rights Division, Disability Rights Section, 950 Pennsylvania Avenue NW., Washington, DC 20530, Phone: 800 514-0301.

RIN: 1190-AA65

DEPARTMENT OF JUSTICE (DOJ)

Civil Rights Division (CRT)

Final Rule Stage

181. Nondiscrimination on the Basis of Disability; Movie Captioning and Audio Description

Legal Authority: 42 U.S.C. 12101, et seq.

Abstract: Following its advance notice of proposed rulemaking published on July 26, 2010, the Department plans to publish a proposed rule addressing the requirements for captioning and video description of movies exhibited in movie theatres under title III of the Americans with Disabilities Act of 1990 (ADA). Title III prohibits discrimination on the basis of disability in the activities of places of public accommodation (private entities whose operations affect commerce and that fall into one of twelve categories listed in the ADA). 42 U.S.C. 12181-12189. Title III makes it unlawful for places of public accommodation, such as movie theaters, to discriminate against individuals with disabilities in the full and equal enjoyment of the goods, services, facilities, privileges, advantages, or accommodations of a place of public accommodation (42 U.S.C. 12182[a]). Moreover, title III prohibits places of public accommodation from affording an unequal or lesser service to individuals or classes of individuals with disabilities than is offered to other individuals (42 U.S.C. 12182(b)(1)(A)(ii)). Title III requires places of public accommodation to take “such steps as may be necessary to ensure that no individual with a disability is excluded, denied services, segregated or otherwise treated differently because of the absence of auxiliary aids and services, such as captioning and video description, unless the entity can demonstrate that taking such steps would fundamentally alter the nature of the good, service, facility, privilege, advantage, or accommodation being offered or would result in an undue burden,” (42 U.S.C. 12182(b)(2)(A)(iii)).

Timetable:

Action | Date | FR Cite
ANPRM | 07/26/10 | 75 FR 43467
ANPRM Comment Period End | 01/24/11 |
NPRM | 08/01/14 | 79 FR 44975
NPRM Comment Period Extended | 09/08/14 | 79 FR 53146
NPRM Comment Period End | 09/30/14 |
NPRM Extended Comment Period End | 12/01/14 |
Final Action | 07/00/16 |

Regulatory Flexibility Analysis Required: Yes.

Agency Contact: Rebecca B. Bond, Chief, Department of Justice, Civil Rights Division, Disability Rights Section, 950 Pennsylvania Avenue NW., Washington, DC 20530, Phone: 800 514-0301.

RIN: 1190-AA63

[FR Doc. 2016-12909 Filed 6-8-16; 8:45 am]

BILLING CODE 4410-BP-P